LIBRARY OF CONGRESS

Copyright Office

[Docket No. 2011-1]

Cable Statutory License: Specialty Station List; Correction

AGENCY: Copyright Office, Library of Congress.

ACTION: Notice of objections and specialty station filings; correction.

SUMMARY: Periodically, the Copyright Office (“Office”) seeks to update its list of specialty stations related to the use of the cable compulsory license. In response to the publication of an initial list of specialty stations for this purpose in April of this year, the Office received objections filed by the Motion Picture Association of America to the identification of certain stations as being entitled to specialty station status in accordance with the Federal Communications Commission's (“FCC”) definition of specialty station in effect on June 24, 1981. Corrections are being made to the specialty station list published on November 8, 2011.

FOR FURTHER INFORMATION CONTACT: Ben Golant, Assistant General Counsel, Copyright GC/I&R, P.O. Box 70400, Southwest Station, Washington, DC 20024. Telephone: (202) 707-8380. Telefax: (202) 707-8366.

Correction

The Office corrects the following errors in the Notice of Objections published in the Federal Register on November 8, 2011 at 76 FR 69288:

• On page 69289, WNYA-CA, Albany, NY was misidentified as WYNA-CA.

• On page 69289, W34DI, Port Jervis, NY was misidentified as W34d1.

• On page 69289, W46DQ, Port Jervis, NY was misidentified as W42DQ.

• On page 69289, W42CX, Port Jervis, NY was missing from the list as a station to which MPAA filed an objection (no evidence of construction or the type of programming broadcast should not be identified as specialty stations)

Dated: November 21, 2011.
Maria A. Pallante,
Register of Copyrights.

[FR Doc. 2011-30522 Filed 11-25-11; 8:45 am]

BILLING CODE 1410-30-P